OFFICE OF GOVERNMENT ETHICS

Updated OGE Senior Executive Service Performance Review Board

AGENCY: Office of Government Ethics (OGE).

ACTION: Notice.

SUMMARY: Notice is hereby given of the appointment of a member to the OGE Senior Executive Service (SES) Performance Review Board.

DATES: Applicable date: October 8, 2024.

FOR FURTHER INFORMATION CONTACT: Shelley K. Finlayson, Acting Director, Chief of Staff, and Program Counsel, Office of Government Ethics, 250 E Street SW, Suite 750, Washington, DC 20024; Telephone: 202-482-9300; TYY: 800-877-8339; FAX: 202-482-9237.

SUPPLEMENTARY INFORMATION: Federal law at 5 U.S.C. 4314(c) requires each agency to establish, in accordance with regulations prescribed by the Office of Personnel Management at 5 CFR part 430, subpart C and § 430.310 thereof in particular, one or more Senior Executive Service performance review boards. As a small executive branch agency, OGE has just one board. In order to ensure an adequate level of staffing and to avoid a constant series of recusals, the designated members of OGE's SES Performance Review Board are being drawn, as in the past, in large measure from the ranks of other executive branch agencies. The board shall review and evaluate the initial appraisal of each OGE senior executive's performance by their supervisor, along with any recommendations in each instance to the appointing authority relative to the performance of the senior executive. This notice updates the membership of OGE's SES Performance Review Board as it was most recently published at 88 FR 75591 (Nov. 3, 2023).

The following official has been appointed to the SES Performance Review Board of the Office of Government Ethics: Danae M. Serrano, Ethics Counsel, Securities and Exchange Commission. The remaining Board members are Sean Dent, Senior Deputy General Counsel, Federal Housing Finance Agency, and Peter J. Constantine, ADAEO, Office of the General Counsel, Department of Transportation.

Approved: October 2, 2024.
Shelley K. Finlayson,
Acting Director, U.S. Office of Government Ethics.

[FR Doc. 2024-23212 Filed 10-7-24; 8:45 am]

BILLING CODE 6345-02-P